LIBRARY OF CONGRESS

Copyright Royalty Board

[Docket No. 2009-1 CRB Webcasting III]

Digital Performance in Sound Recordings and Ephemeral Recordings

AGENCY: Copyright Royalty Board, Library of Congress.

ACTION: Notice announcing commencement of proceeding with request for Petitions to Participate.

SUMMARY: The Copyright Royalty Judges are announcing the commencement of the proceeding to determine the reasonable rates and terms for two statutory licenses, permitting certain digital performances of sound recordings and the making of ephemeral recordings for the period beginning January 1, 2011, and ending on December 31, 2015. The Copyright Royalty Judges also are announcing the date by which a party who wishes to participate in the rate determination proceeding must file its Petition to Participate and the accompanying $150 filing fee.

DATES: Petitions to Participate and the filing fee are due no later than February 4, 2009.

ADDRESSES: An original, five copies, and an electronic copy in Portable Document Format (PDF) on a CD of the Petition to Participate, along with the $150 filing fee, may be delivered to the Copyright Royalty Board by either mail or hand delivery. Petitions to Participate and the $150 filing fee may not be delivered by an overnight delivery service other than the U.S. Postal Service Express Mail. If by mail (including overnight delivery), Petitions to Participate, along with the $150 filing fee, must be addressed to: Copyright Royalty Board, P.O. Box 70977, Washington, DC 20024-0977. If hand delivered by a private party, Petitions to Participate, along with the $150 filing fee, must be brought to the Library of Congress, James Madison Memorial Building, LM-401, 101 Independence Avenue, SE., Washington, DC 20559-6000. If delivered by a commercial courier, Petitions to Participate, along with the $150 filing fee, must be delivered to the Congressional Courier Acceptance Site, located at 2nd and D Street, NE., Washington, DC. The envelope must be addressed to: Copyright Royalty Board, Library of Congress, James Madison Memorial Building, LM-403, 101 Independence Avenue, SE., Washington, DC 20559-6000.

FOR FURTHER INFORMATION CONTACT: LaKeshia Brent, CRB Program Specialist, by telephone at (202) 707-7658 or e-mail at crb@loc.gov.

SUPPLEMENTARY INFORMATION:

Background

On May 1, 2007, the Copyright Royalty Judges (“Judges”) announced their final determination of the rates and terms for public performances of sound recordings by means of an eligible nonsubscription transmission and transmissions made by a new subscription service and the making of an ephemeral recording in furtherance of making a permitted public performance of the sound recording for the period January 1, 2006, through December 31, 2010. 72 FR 24084. Section 804(b)(3)(A) of the Copyright Act, title 17 of the United States Code, requires that “[s]uch proceedings shall next be commenced in January 2009 to determine reasonable terms and rates of royalty payments, to become effective on January 1, 2011.” 17 U.S.C. 804(b)(3)(A). Pursuant to this provision, this notice commences the rate determination proceeding for the license period 2011-2015. Section 803(b)(1)(A)(i)(III) of the Copyright Act requires the Judges to publish a Federal Register notice no later than January 5, 2009, commencing this proceeding.

Petitions To Participate

Petitions to Participate must be filed in accordance with § 351.1(b) of the Judges' regulations. See 37 CFR 351.1(b). Petitions to Participate must be accompanied by the $150 filing fee. Cash will not be accepted; therefore, parties must pay the filing fee with a check or money order made payable to “Copyright Royalty Board.” If a check received in payment of the filing fee is returned for lack of sufficient funds, the corresponding Petition to Participate will be dismissed.

Note that in accordance with 37 CFR 350.2 (Representation), only attorneys who are members of the bar in one or more states and in good standing will be allowed to represent parties before the Copyright Royalty Judges, unless a party is an individual who represents herself or himself.

Dated: December 23, 2008.
Stanley C. Wisniewski,
Copyright Royalty Judge.

[FR Doc. E8-30972 Filed 1-2-09; 8:24 am]

BILLING CODE 1410-72-P